DEPARTMENT OF LABOR

Employment and Training Administration

[TA-W-38,144]

Avoca Manufacturing, Avoca, Pennsylvania, including Leased Workers of Advanced Employee Services, Inc., Employed at Avoca Manufacturing, Avoca, Pennsylvania; Amended Certification Regarding Eligibility to Apply for Worker Adjustment Assistance

In accordance with Section 223 of the Trade Act of 1974 (19 U.S.C. 2273) the Department of Labor issued a Certification of Eligibility to Apply for Worker Adjustment Assistance on December 5, 2000, applicable to workers of Avoca Manufacturing, Avoca, Pennsylvania. The notice was published in the Federal Register on December 21, 2000 (65 FR 80457).

At the request of the State agency, the Department reviewed the certification for workers of the subject firm. New information provided by the company shows that some employees of Avoca Manufacturing, Avoca, Pennsylvania were leased from Advanced Employee Services, Inc., Luzerne, Pennsylvania to produce children's clothing at the Avoca, Pennsylvania facility. Information also show that workers separated from employment at the subject firm had their wages reported under a separated unemployment insurance (UII) tax account for Advanced Employee Services, Inc.

Based on these findings, the Department is amending the certification to include workers of Advanced Employee Services, Inc. Luzerne, Pennsylvania leased to Avoca Manufacturing, Avoca, Pennsylvania.

The amended notice applicable to TA-W-38,144 is hereby issued as follows:

All workers of Avoca Manufacturing, Avoca, Pennsylvania and leased workers of Advanced Employee Services, Inc., Luzerne, Pennsylvania who were engaged in employment related to the production of children's clothing for Avoca Manufacturing, Avoca, Pennsylvania who became totally or partially separated from employment on or after September 15, 1999 through December 5, 2002 are eligible to apply for adjustment assistance under Section 223 of the Trade Act of 1974.

Signed at Washington, DC, this 11th day of January, 2001.
Linda G. Poole,
Certifying Officer, Division of Trade Adjustment Assistance.

[FR Doc. 01-1893 Filed 1-22-01; 8:45 am]

BILLING CODE 4510-30-M